DEPARTMENT OF AGRICULTURE

Forest Service

Plumas County Resource Advisory Committee (RAC); Meeting

AGENCY: Forest Service, USDA.

ACTION: Notice of meeting.

SUMMARY: The Plumas County Resource Advisory Committee (RAC) will holds its first meeting December 17, 2001, in Quincy, California. The purpose of the meeting is to review the Resource Advisory Committee's role in implementing the Title 2 provisions of the Secure Rural Schools and Community Self-Determination Act of 2000.

DATES: The meeting will be held from 6-7:30 pm on December 17, 2001.

ADDRESSES: The meeting will be held at the Mineral Building at the Plumas-Sierra County Fairground, 204 Fairgrounds Road Quincy, California, 95971.

FOR FURTHER INFORMATION CONTACT: Lee Anne Schramel Taylor, Forest Coordinator, USDA, Plumas National Forest, P.O. Box 11500/159 Lawrence Street, Quincy, CA, 95971; (530) 283-7850; or by E-MAIL eatavlor#fs.fed.us.

SUPPLEMENTARY INFORMATION: Agenda items for this initial meeting include: (1) Member introductions; (2) Review introductory materials binder, (3) Federal Advisory Committee Act (FACA) overview; (4) Review Committee Charter and Secure Rural Schools and Community Self-Determination Act of 2000; (5) Discuss Project selection/design process; (6) Public Comment; and, (7) Future meeting schedule/logistics. The meeting is open to the public and individuals may address the Committee at the time provided on the agenda.

November 2, 2001.
Mark J. Madrid,
Forest Supervisor.

[FR Doc. 01-28145 Filed 11-8-01; 8:45 am]

BILLING CODE 0511-02-M